DEPARTMENT OF COMMERCE

National Oceanic and Atmospheric Administration

50 CFR Part 648

[Docket No. 230821-0201]

RIN 0648-BL61

Fisheries of the Northeastern United States; Improvement and Modernization of Atlantic Surfclam and Ocean Quahog Vessel Reporting Regulations

AGENCY: National Marine Fisheries Service (NMFS), National Oceanic and Atmospheric Administration (NOAA), Commerce.

ACTION: Final rule.

SUMMARY: NMFS is implementing regulation changes to integrate the vessel reporting requirements for the Atlantic surfclam and ocean quahog fisheries with the reporting requirements for all other commercial fisheries in the Greater Atlantic Region. These changes are intended to simplify the regulations and make it easier for surfclam and ocean quahog vessel operators to submit the required fishing trip reports electronically. This action will result in improved administration and management of the surfclam and ocean quahog fisheries.

DATES: Effective September 27, 2023.

ADDRESSES: Written comments regarding the burden-hour estimates or other aspects of the collection-of-information requirements contained in this final rule may be submitted to the Greater Atlantic Regional Fisheries Office and to https://www.reginfo.gov/public/do/PRAMain. Find this particular information collection by using the search function and entering either the title of the collection or the Office of Management and Budget (OMB) Control Number 0648-0212.

FOR FURTHER INFORMATION CONTACT: Douglas Potts, Fishery Policy Analyst, (978) 281-9341, douglas.potts@noaa.gov.

SUPPLEMENTARY INFORMATION:

Background

The Mid-Atlantic Fishery Management Council manages the Atlantic surfclam and ocean quahog fisheries under the Atlantic Surfclam and Ocean Quahog Fishery Management Plan (FMP). The FMP has included a requirement for fishing vessels to maintain and submit a log of fishing operations since it was first implemented (42 FR 60438, November 25, 1977). Over the years, other species also became subject to management under the Magnuson-Stevens Fishery Conservation and Management Act (Magnuson-Stevens Act) and additional fishing vessel reporting requirements were added to the regulations. To cover the reporting requirements of these other fisheries, a standardized fishing vessel trip report (VTR) form was developed. For a number of reasons, including the specific requirements of the Atlantic Surfclam and Ocean Quahog Individual Transferable Quota (ITQ) management system, the surfclam and ocean quahog vessel reporting regulations have remained separate from the vessel reporting regulations that apply to all other commercial fisheries in the Greater Atlantic Region. Surfclam and ocean quahog vessels have used a form separate from the VTR, often referred to as the clam logbook, to report fishing trips that specifically target surfclam or ocean quahog.

Detailed information about the drawbacks of separate trips reports, the benefits of having a single report for all fishing trips, and the development of electronic VTR (eVTR) in the Greater Atlantic Region was provided in the proposed rule for this action (88 FR 20115, April 5, 2023) and is not repeated here.

This action eliminates the requirement for a separate surfclam/ocean quahog logbook and requires surfclam and ocean quahog vessel operators to complete the standard eVTR instead. When a fishing trip includes surfclams or ocean quahogs, the eVTR application will automatically present additional fields to collect the required information specific to the ITQ fishery, including the ITQ allocation number, the cage tag numbers for all cages being landed, and price per bushel. This information has previously been reported by the fishery on the surfclam/ocean quahog logbook, so there is no additional reporting burden on fishermen. Overall, the reporting burden would decrease because surfclam and ocean quahog trips that also land other regulated species will no longer be required to submit two reports, instead fulfilling all reporting requirements through a single electronic submission.

Comments

On April 5, 2023, we published a proposed rule (88 FR 20115) requesting comments on changes to the regulations to eliminate the separate surfclam and ocean quahog vessel logbook and require all vessels fishing for these species to report trips using the standard eVTR. The comment period was open through May 5, 2023. We received no comments on the proposed regulatory changes or on the impact of those changes on the public reporting burden in the existing information collection approved under the Paperwork Reduction Act (PRA).

Changes From the Proposed Rule

There are no changes to the proposed regulatory updates. However, this final rule corrects a minor typographical error in the first sentence of the introductory text in 50 CFR 648.7(b)(1), changing the word “and” to “an.”

Classification

NMFS is issuing this rule pursuant to section 305(d) of the Magnuson-Stevens Act. Pursuant to that section, this action is necessary to carry out the provisions of the Atlantic Surfclam and Ocean Quahog FMP because the initial reporting provisions adopted in 1977 have become inconsistent with other reporting requirements in the Greater Atlantic Region. This inconsistency has led to an unnecessary additional reporting burden on the fishing industry. The NMFS Assistant Administrator has determined that this final rule is consistent with the Atlantic Surfclam and Ocean Quahog FMP, other provisions of the Magnuson-Stevens Act, and other applicable law, subject to further consideration after public comment.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains a collection-of-information requirement subject to review and approval by OMB under the PRA. This rule revises the existing requirements for the collection of information under the following OMB Control Number: 0648-0212, Greater Atlantic Region Logbook Family of Forms, by eliminating the shellfish log (NOAA Form 88-140). All respondents and responses that would have used this form would use the Fishing Vessel Trip Report (NOAA Form 88-30) instead. This form takes less time to complete and is submitted electronically, resulting in a small decrease in estimated time burden and the elimination of postage costs. Public reporting burden for the Fishing Vessel Trip Report is estimated to average five minutes, including the time taken to review the instructions, search existing data sources, gather and maintain the data needed, and to complete and review the information collected.

We invite the general public and other Federal agencies to comment on proposed and continuing information collections, which helps us assess the impact of our information collection requirements and minimize the public's reporting burden. Written comments and recommendations for this information collection should be submitted on the following website: https://www.reginfo.gov/public/do/PRAMain. Find this particular information collection by using the search function and entering either the title of the collection or the OMB Control Number 0648-0212.

Notwithstanding any other provisions of the law, no person is required to respond to, nor shall any person be subject to a penalty for failure to comply with, a collection of information subject to the requirements of the PRA, unless that collection of information displays a currently valid OMB Control Number.

List of Subjects in 50 CFR Part 648

Fisheries, Fishing, Reporting and recordkeeping requirements.

Dated: August 22, 2023.
Samuel D. Rauch, III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. In § 648.7, revise paragraphs (b)(1) introductory text, (b)(1)(i) introductory text, and (b)(1)(iii) to read as follows:

§ 648.7 Recordkeeping and reporting requirements.

* * * * *

(b) * * *

(1) Fishing Vessel Trip Reports. The owner or operator of any vessel issued a valid permit or eligible to renew a limited access permit under this part must maintain on board the vessel and submit an accurate fishing log report for each fishing trip, regardless of species fished for or taken, by electronic means. This report must be entered into and submitted through a software application approved by NMFS.

(i) Vessel owners or operators. At least the following information as applicable and any other information required by the Regional Administrator must be provided:

* * * * *

(iii) Surfclam and ocean quahog owners or operators. In addition to the information listed under paragraph (b)(1)(i) of this section, the owner or operator of any vessel conducting any surfclam or ocean quahog fishing operations in the ITQ program must provide at least the following information and any other information required by the Regional Administrator:

(A) Total amount in bushels of surfclams and/or ocean quahogs taken;

(B) Price per bushel;

(C) Tag numbers from cages used; and

(D) Allocation permit number.

* * * * *

[FR Doc. 2023-18414 Filed 8-25-23; 8:45 am]

BILLING CODE 3510-22-P